DEPARTMENT OF HOMELAND SECURITY

Federal Emergency Management Agency

[Docket ID: FEMA-2007-0008]

National Advisory Council

AGENCY: Federal Emergency Management Agency, Department of Homeland Security.

ACTION: Committee management; request for applicants for appointment to the National Advisory Council.

SUMMARY: The Federal Emergency Management Agency (FEMA) requests that qualified individuals interested in serving on the FEMA National Advisory Council (NAC) apply for appointment as identified in this notice. Pursuant to the Post-Katrina Emergency Management Reform Act of 2006 (PKEMRA), the NAC advises the FEMA Administrator on all aspects of emergency management, incorporating input from and ensuring coordination with Tribal, State, Territorial and local governments, and the non-governmental and private sectors. The NAC consists of up to 40 members, all of whom are experts and leaders in their respective fields. FEMA seeks to appoint or reappoint individuals to seven (7) discipline-specific positions on the NAC and up to two (2) members as Administrator Selections. If other positions open during the application and selection period, FEMA may select qualified candidates from the pool of applications.

DATES: FEMA will accept applications until 11:59 p.m. Eastern Time on Sunday, May 21, 2023.

ADDRESSES: The preferred method for application package submission is by email. Application packages by U.S. Mail may not be considered. Please submit using the following method: Email: FEMA-NAC@fema.dhs.gov. Save materials in one file using the naming convention, “(Last Name) (First Name)_NAC Application” and attach to the email. The Office of the NAC will send you an email that confirms receipt of your application and will notify you of the final status of your application once FEMA selects members.

FOR FURTHER INFORMATION CONTACT: Rob Long, Designated Federal Officer, Office of the National Advisory Council, Federal Emergency Management Agency; FEMA-NAC@fema.dhs.gov, 202.646.2700. For more information on the NAC, including membership application instructions, visit https://www.fema.gov/about/offices/national-advisory-council.

SUPPLEMENTARY INFORMATION: The NAC is an advisory committee established in accordance with the provisions of the Federal Advisory Committee Act (FACA), 5 U.S.C. ch. 10. As required by PKEMRA, the Secretary of Homeland Security established the NAC to ensure effective and ongoing coordination of federal preparedness, protection, response, recovery, and mitigation for natural disasters, acts of terrorism, and other man-made disasters. Appointees may be designated as a Special Government Employee (SGE) as defined in section 202(a) of title 18, U.S.C., or as a Representative (Rep.) member. SGEs speak in a personal capacity as experts in their field and Representative members speak for the stakeholder group they represent.

FEMA is requesting that individuals who are interested in and qualified to serve on the NAC apply for appointment to an open position in one of the following seven discipline areas: Disabilities, Access, and Functional Needs Rep.; Elected Tribal Government Officials Rep.; Emergency Management Rep.; Emergency Response Provider Rep.; Non-Elected Tribal Government Official Rep.; Health Scientist SGE; and Standards Setting and Accrediting Rep. The Administrator may appoint up to two (2) additional candidates to serve as FEMA Administrator Selections (as SGE appointments). Please visit https://www.fema.gov/about/offices/national-advisory-council/membership-applications for further information on expertise required to fill these positions. Appointments will be for 3-year terms, or for the remainder of an existing term that is open. Appointments begin in December 2023.

The NAC Charter contains more information and can be found at: https://www.fema.gov/sites/default/files/documents/fema_nac-charter_2022.pdf.

If you are interested, qualified, and want FEMA to consider appointing you to fill an open position on the NAC, please submit an application package to the Office of the NAC as listed in the ADDRESSES section of this notice. There is no application form; however, each application package MUST include the following information:

• Cover letter, addressed to the Office of the NAC, that includes current position title and employer or organization you represent, home and work mailing addresses, preferred telephone number, and email address; the discipline area position(s) for which you would like consideration; why you are interested in serving on the NAC; and how you heard about the solicitation for NAC members.

• A summary of the most important accomplishments that qualify you to serve on the NAC, in the form of three to five (3-5) bullets in less than 75 words total.

• Three (3) peer or supervisor references including full name, position title, employer or organization, preferred telephone number and email address. References must be able to attest to the qualifications and accomplishments you have listed.

• Resume or Curriculum Vitae (CV).

Your application package must be less than eight (8) total pages to be considered by FEMA. Information contained in your application package should clearly indicate your qualifications to serve on the NAC and fill one of the current open positions. FEMA will not consider incomplete applications. FEMA will review the information contained in application packages and make selections based on (1) leadership attributes; (2) emergency management experience; (3) expert knowledge in identified discipline area; and (4) ability to meet NAC member expectations. FEMA will also consider overall NAC composition, including diversity (including, but not limited to geographic, demographic, and experience) and mix of officials, emergency managers, and emergency response providers from state, local, tribal, and territorial governments, when selecting members. In order for DHS to fully leverage broad-ranging experience and education, the NAC must be diverse with regard to professional and technical expertise. DHS is committed to pursuing opportunities, consistent with applicable law, to compose a committee that reflects the diversity of the nation's people.

DHS does not discriminate based on race, color, religion, sex, national origin, sexual orientation, gender identity, marital status, political affiliation, disability and genetic information, age, membership in an employee organization, or other non-merit factor. DHS strives to achieve a widely diverse candidate pool for all its recruitment actions. Current DHS and FEMA employees, including FEMA Reservists, are not eligible for membership. Federally registered lobbyists may not apply. Candidates selected for appointment as SGEs are required to complete a new entrant Confidential Financial Disclosure Report (Office of Government Ethics (OGE) Form 450) each year. You can find this form at the Office of Government Ethics website (http://www.oge.gov). However, please do not submit this form with your application.

Expectations: Appointees to this volunteer service opportunity are expected to fully participate in NAC activities, work with fellow members as a team, and maintain a high degree of integrity. The NAC Bylaws contain more information and can be found at: https://www.fema.gov/sites/default/files/documents/fema_nac-bylaws.pdf. NAC members must serve on one of the NAC subcommittees, which meet regularly through virtual means. FEMA estimates a six (6) hour minimum time commitment per month for regular communications, special activities, and subcommittee participation. Selected NAC members serve in leadership roles and participate in additional meetings and activities. Additionally, all NAC members can meet in-person up to twice per year, typically three (3) days for each meeting. FEMA does not pay NAC members for their time, but may reimburse travel expenses such as airfare, lodging, meals, incidentals, and other transportation costs within Federal Travel Regulations when pre-approved by the Designated Federal Officer.

Deanne Criswell,
Administrator, Federal Emergency Management Agency.

[FR Doc. 2023-07796 Filed 4-12-23; 8:45 am]

BILLING CODE 9111-48-P